DEPARTMENT OF THE INTERIOR

Minerals Management Service

Environmental Documents Prepared in Support of Sand and Gravel Activities on the Outer Continental Shelf

AGENCY: Minerals Management Service, Interior.

ACTION: Notice of Availability of Recent Environmental Assessments and Findings of No Significant Impact Prepared or Adopted by the MMS.

SUMMARY: Pursuant to Section 102(2)(C) of the National Environmental Policy Act (NEPA), the Council on Environmental Quality regulations (40 CFR parts 1500-1508), and the Department of the Interior regulations on NEPA (43 CFR part 46), the Minerals Management Service (MMS) announces the availability of Environmental Assessments (EA) and Findings of No Significant Impact (FONSI) prepared and/or adopted by the MMS for three sand and gravel activities proposed on the Outer Continental Shelf (OCS) and described in more detail below.

FOR FURTHER INFORMATION CONTACT: James F. Bennett, Chief, Branch of Environmental Assessment, Minerals Management Service, 381 Elden Street, MS4042, Herndon, Virginia 20170; telephone (703) 787-1660; e-mail James.F.Bennett@mms.gov.

EA Availability: To obtain a copy of an EA and/or FONSI, you may contact the MMS or visit the MMS Web site at http://www.mms.gov/sandandgravel/.

SUPPLEMENTARY INFORMATION: Public Law 103-426, enacted October 31, 1994, gave the MMS the authority to convey on a noncompetitive basis, the rights to OCS sand, gravel, or shell resources for shore protection, beach or wetlands restoration projects, or use in construction projects funded in whole or part or authorized by the Federal government. The MMS prepares and/or adopts EAs that examine the potential environmental effects of the use of OCS sand and gravel resources, including the potential direct and indirect effects of dredging, transport, and placement of those resources. Each EA is used as a basis for determining whether or not issuing a particular negotiated agreement for the use of OCS sand and gravel resources constitutes a major Federal action that significantly affects the quality of the human environment and warrants the preparation of an environmental impact statement (EIS). A FONSI is prepared in those instances where the MMS finds that issuing a negotiated agreement will not result in significant effects on the quality of the human environment.

The MMS may serve as a cooperating agency during the preparation of a NEPA document when another Federal agency is undertaking a connected action. The MMS independently reviews and may adopt the NEPA document after determining that it complies with relevant regulations and is applicable to and consistent with the MMS's proposed action.

This notice constitutes the notice of availability to the public of the following environmental documents:

Project name | Location | Project purpose | FONSI | Lead Federal agency
Raccoon Island Shore Protection/Marsh Creation Project Phase B | Gulf of Mexico, offshore Terrebonne Parish, LA | Marsh creation | 5/20/2009 | U.S. Department of Agriculture, Natural Resources Conservation Service.
Brevard County (South Reach) Shore Protection Project | Atlantic Ocean, offshore Cape Canaveral and Brevard County, FL | Beach nourishment | 8/20/2009 | U.S. Army Corps of Engineers, Jacksonville District.
Charleston Offshore Dredge Material Disposal Site Sand Borrow Project | Atlantic Ocean, offshore Charleston, SC | Terminal expansion | 10/16/2009 | MMS.

The MMS has concluded that the respective proposed actions will not significantly affect the quality of the human environment and the preparation of EISs is not required. Mitigation measures identified during the NEPA process will be applied for each proposal to ensure environmental protection and safety.

Dated: November 30, 2009.
Chris C. Oynes,
Associate Director for Offshore Energy and Minerals Management.

[FR Doc. 2010-1278 Filed 1-22-10; 8:45 am]

BILLING CODE 4310-MR-P